LIBRARY OF CONGRESS

Copyright Royalty Board

[Docket Nos. 16-CRB-0014 DART-SRF (CO) (2015) and 16-CRB-0022-DART-SRF (FRA) (2015)]

Distribution of 2015 DART Sound Recordings Fund Royalties (Copyright Owners and Featured Artists Subfunds)

AGENCY: Copyright Royalty Board, Library of Congress.

ACTION: Notice soliciting comments on motion for partial distribution.

SUMMARY: The Copyright Royalty Judges solicit comments on a motion for partial distribution in connection with 2015 DART Sound Recordings Fund royalties.

DATES: Comments are due on or before September 14, 2017.

ADDRESSES: You may send comments, identified by both docket numbers 16-CRB-0014 DART-SRF (CO) (2015) and 16-CRB-0022-DART-SRF (FRA) (2015),¹ by any of the following methods:

¹ The motion was filed under docket number 16-CRB-0014 DART-SRF (CO) (2015). CO stands for Copyright Owners subfund. The motion should have included a second docket number because it includes a request regarding both the CO subfund and another subfund (the Featured Recording Artists (FRA) subfund). An additional docket number, 16-CRB-0022-DART-SRF (FRA) (2015), has been assigned to the motion. (Note that the docket number for the Copyright Owners fund has been revised to add an F after SR to bring it into conformity with eCRB docket numbering protocols.)

CRB's electronic filing application: Submit comments online in eCRB at https://app.crb.gov/.

U.S. mail: Copyright Royalty Board, P.O. Box 70977, Washington, DC 20024-0977; or

Overnight service (only USPS Express Mail is acceptable): Copyright Royalty Board, P.O. Box 70977, Washington, DC 20024-0977; or

Commercial courier: Address package to: Copyright Royalty Board, Library of Congress, James Madison Memorial Building, LM-403, 101 Independence Avenue SE., Washington, DC 20559-6000. Deliver to: Congressional Courier Acceptance Site, 2nd Street NE., and D Street NE., Washington, DC; or

Hand delivery: Library of Congress, James Madison Memorial Building, LM-401, 101 Independence Avenue SE., Washington, DC 20559-6000.

Instructions: Unless submitting online, commenters must submit an original, five paper copies, and an electronic version on a CD. All submissions must include the Copyright Royalty Board name and docket number(s). All submissions received and accepted will be filed and posted to eCRB on https://www.crb.gov without change, including any personal information provided.

Docket: For access to the docket to read background documents or comments received, go to eCRB, the Copyright Royalty Board's electronic filing and case management system, at https://app.crb.gov/ and search for docket number 16-CRB-0014 DART-SRF (CO) (2015) or docket number 16-CRB-0022-DART-SRF (FRA) (2015). For documents not yet uploaded to eCRB (because it is a new system), go to the CRB Web site at https://www.crb.gov/ or contact the CRB Program Specialist.

FOR FURTHER INFORMATION CONTACT: Anita Brown-Blaine, Program Specialist, by telephone at (202) 707-7658 or email at crb@loc.gov.

SUPPLEMENTARY INFORMATION: On June 23, 2017, the Alliance of Artists and Recording Companies (AARC), on behalf of itself and claimants with which it has reached settlements (Settling Claimants) filed with the Copyright Royalty Judges (Judges) a Notice of Settlement and Request for Partial Distribution of the 2015 DART Sound Recordings Fund Featured Recording Artists and Copyright Owners Subfunds Royalties (Notice and Request). In the Notice and Request, AARC states that the Settling Claimants have agreed among themselves concerning distribution of the 2015 DART Sound Recordings Fund royalties from two subfunds: Copyright Owners and Featured Recording Artists.

With respect to the Featured Recording Artists Subfund, AARC represents that it has reached settlements with all but one claimant (Herman Kelly). AARC contends that Mr. Kelly had sales of approximately 157,000 out of a total of 1 billion sold for the year. Notice and Request at 2.

With respect to the Copyright Owners Subfund, AARC represents that it has reached settlements with all but four claimants (Herman Kelly, Eugene Curry, George Clinton, and C. Kunspyruhzy-George Clinton). AARC contends that the combined sales of the non-settling copyright owners is approximately 192,000 units out of approximately 1 billion sold for the year. Id. at 3.

AARC requests a partial distribution of 98% from the Copyright Owners Subfund and an equal percentage from the Featured Recording Artists Subfund pursuant to Section 801(b)(3)(C) of the Copyright Act. Under that section of the Copyright Act, before ruling on a partial distribution motion the Judges must publish a notice in the Federal Register seeking responses to the motion to ascertain whether any claimant entitled to receive such royalty fees has a reasonable objection to the proposed distribution. 17 U.S.C. 801(b)(3)(C). Consequently, this Notice seeks comments from interested claimants on whether any reasonable objection exists that would preclude the distribution from the 2015 DART Sound Recordings Fund of 98% of the royalties in the Featured Recording Artists Subfund and 98% of the royalties in the Copyright Owners Subfund to the Settling Claimants. Any party wishing to advise the Judges of the existence and extent of an objection must do so, in writing, by the end of the comment period. The Judges will not consider any objections to the partial distribution motion that are raised after the close of that period.

Dated: August 9, 2017.
Suzanne M. Barnett,
Chief U.S. Copyright Royalty Judge.

[FR Doc. 2017-17166 Filed 8-14-17; 8:45 am]

BILLING CODE 1410-72-P